DEPARTMENT OF COMMERCE

International Trade Administration

[A-201-836, A-489-815, A-570-914, A-580-859]

Light-Walled Rectangular Pipe and Tube From the Republic of Korea, Mexico, Turkey, and the People's Republic of China: Final Results of the Expedited Second Sunset Reviews of the Antidumping Duty Orders

AGENCY: Enforcement and Compliance, International Trade Administration, Department of Commerce.

SUMMARY: As a result of these sunset reviews, the Department of Commerce (Commerce) finds that revocation of the antidumping duty (AD) orders on light-walled rectangular pipe and tube (light-walled pipe and tube) from the Republic of Korea (Korea), Mexico, Turkey, and the People's Republic of China (China) would be likely to lead to continuation or recurrence of dumping at the levels indicated in the “Final Results of Sunset Reviews” section of this notice.

DATES: Applicable August 27, 2019.

FOR FURTHER INFORMATION CONTACT: Edythe Artman, AD/CVD Operations, Office VI, Enforcement and Compliance, International Trade Administration, U.S. Department of Commerce, 1401 Constitution Avenue NW, Washington, DC 20230; telephone: (202) 482-3931.

SUPPLEMENTARY INFORMATION:

Background

On May 1, 2019, Commerce published the notice of initiation of the second sunset reviews of the AD orders on light-walled pipe and tube from Korea, Mexico, Turkey, and China, pursuant to section 751(c)(2) of the Tariff Act of 1930, as amended (the Act).¹ We received notices of intent to participate in the reviews from the follow companies: Atlas Tube, Bull Moose Tube Company, California Steel and Tube, Hannibal Industries, Maruichi American Corporation, Searing Industries, Inc., Vest, Inc., Independence Tube Corporation, Southland Tube, Inc., and Wheatland Tube Company (collectively, the domestic interested parties).² Commerce received complete substantive responses from the domestic interested parties within the 30-day deadline specified in 19 CFR 351.218(d)(3)(i).³ We received no substantive responses from any other interested parties, nor was a hearing requested. As a result, pursuant to section 751(c)(3)(B) of the Act and 19 CFR 351.218(e)(1)(ii)(C)(2), Commerce has conducted expedited (120-day) sunset reviews of the orders.⁴

¹ See Initiation of Five-Year (Sunset) Reviews, 84 FR 18477 (May 1, 2019).

² See Letter, “Notice of Intent to Participate in Second Five-Year Review of the Antidumping Duty Order on Light-Walled Rectangular Pipe and Tube from Korea,” dated May 13, 2019; Letter, “Notice of Intent to Participate in Second Five-Year Review of the Antidumping Duty Order on Light-Walled Rectangular Pipe and Tube from Mexico,” dated May 13, 2019; Letter, “Notice of Intent to Participate in Second Five-Year Review of the Antidumping Duty Order on Light-Walled Rectangular Pipe and Tube from Turkey,” dated May 13, 2019; Letter, “Notice of Intent to Participate in Second Five-Year Review of the Antidumping Duty Order on Light-Walled Rectangular Pipe and Tube from China,” dated May 13, 2019; Letter, “Light-Walled Rectangular Pipe and Tube from the Republic of Korea: Notice of Intent to Participate,” dated May 16, 2019; Letter, “Light-Walled Rectangular Pipe and Tube from Mexico: Notice of Intent to Participate,” dated May 16, 2019; Letter, “Light-Walled Rectangular Pipe and Tube from Turkey: Notice of Intent to Participate,” dated May 16, 2019; Letter, “Light-Walled Rectangular Pipe and Tube from the People's Republic of China: Notice of Intent to Participate,” dated May 16, 2019; and Letter, “Second Five-Year Reviews of the Antidumping Duty Order on Light-Walled Rectangular Pipe and Tube from China, Korea, Mexico, and Turkey: Errata,” dated July 15, 2019.

³ See Letter, “Light-Walled Rectangular Pipe and Tube from Korea, Second Review: Substantive Response to Notice of Initiation,” dated May 31, 2019; Letter, “Light-Walled Rectangular Pipe and Tube from Mexico: Substantive Response to Notice of Initiation,” dated May 31, 2019; Letter, “Light-Walled Rectangular Pipe and Tube from Turkey: Substantive Response to Notice of Initiation,” dated May 31, 2019; and Letter, “Light-Walled Rectangular Pipe and Tube from the People's Republic of China, Second Review: Substantive Response to Notice of Initiation,” dated May 31, 2019.

⁴ See Letter, “Sunset Reviews Initiated on May 1, 2019,” dated July 2, 2019.

Scope of the Orders

The merchandise subject to the orders is certain welded carbon quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to these orders is currently classified under the Harmonized Tariff Schedule of the United States (HTSUS) subheadings 7306.61.50.00 and 7306.61.70.60. While HTSUS subheadings are provided for convenience and Customs purposes, our written description of the scope of the orders is dispositive.

Analysis of Comments Received

All issues raised in these reviews, including the likelihood of continuation or recurrence of dumping in the event of revocation and the magnitude of the margins likely to prevail if the orders were revoked, are addressed in the accompanying Issues and Decision Memorandum.⁵ The Issues and Decision Memorandum is a public document and is on file electronically via Enforcement and Compliance's Antidumping and Countervailing Duty Centralized Electronic Service System (ACCESS). ACCESS is available to registered users at http://access.trade.gov and to all parties in the Central Records Unit, Room B8024 of the main Commerce building. In addition, a complete version of the Issues and Decision Memorandum can be accessed directly on the internet at http://enforcement.trade.gov/frn/. The signed and electronic versions of the Issues and Decision Memorandum are identical in content.

⁵ See Memorandum, “Issues and Decision Memorandum for the Expedited Second Sunset Reviews of the Antidumping Duty Orders on Light-Walled Rectangular Pipe and Tube from the Republic of Korea, Mexico, Turkey and the People's Republic of China,” dated concurrently with, and hereby adopted by, this notice (Issues and Decision Memorandum).

Final Results of Sunset Reviews

Pursuant to sections 751(c)(1) and 752(c)(1) and (3) of the Act, we determine that revocation of the AD orders on light-walled pipe and tube from Korea, Mexico, Turkey, and China would be likely to lead to continuation or recurrence of dumping, and that the magnitude of the dumping margins likely to prevail would be weighted-average dumping margins up to 30.66 percent, 11.50 percent, 41.71 percent, and 255.07 percent, respectively.

Administrative Protective Order (APO)

This notice serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218.

Dated: August 18, 2019.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Reviews

VIII. Recommendation

[FR Doc. 2019-18373 Filed 8-26-19; 8:45 am]

BILLING CODE 3510-DS-P